DEPARTMENT OF AGRICULTURE

Forest Service

Prince of Wales Resource Advisory Committee

AGENCY: Forest Service, USDA.

ACTION: Notice of meeting.

SUMMARY: The Prince of Wales Resource Advisory Committee will meet in Craig, Alaska, August 3, 2010. The purpose of this meeting is to discuss potential projects under the Secure Rural Schools and Community Self-Determination Act of 2008.

DATES: The meeting will be held August 3, 2010 from 10 a.m. to 4 p.m.

ADDRESSES: The meeting will be held at the Craig Ranger District, 504 9th Street, Craig, Alaska. Send written comments to Prince of Wales Resource Advisory Committee, c/o District Ranger, USDA Forest Service, PO Box 500, Craig, AK 99921, or electronically to Rebecca Sakraida, RAC Coordinator at rsakraida@fs.fed.us.

FOR FURTHER INFORMATION CONTACT: Rebecca Sakraida, RAC Coordinator Craig Ranger District, Tongass National Forest, (907) 826-1601.

SUPPLEMENTARY INFORMATION: The meeting is open to the public. Committee discussion is limited to Forest Service staff and Committee members. However, public input opportunity will be provided and individuals will have the opportunity to address the Committee at that time.

Dated: June 16, 2010.
Gregory M. Killinger,
District Ranger.

[FR Doc. 2010-15944 Filed 6-29-10; 8:45 am]

BILLING CODE 3410-11-P